NATIONAL AERONAUTICS AND SPACE ADMINISTRATION

[Notice (06-031)]

Government-Owned Inventions, Available for Licensing

AGENCY: National Aeronautics and Space Administration.

ACTION: Notice of availability of inventions for licensing.

SUMMARY: The inventions listed below assigned to the National Aeronautics and Space Administration, have been filed in the United States Patent and Trademark Office, and are available for licensing.

DATE: May 30, 2006.

FOR FURTHER INFORMATION CONTACT: Robert M. Padilla, Patent Counsel, Ames Research Center, Code 202A-4, Moffett Field, CA 94035-1000; telephone (650) 604-5104; fax (650) 604-2767.

NASA Case No. ARC-15437-1: Simplified Night Sky Display System;

NASA Case No. ARC-15462-1: Finite-Difference Simulation and Visualization of Elastodynamics in Time-Evolving Generalized Curvilinear Coordinates;

NASA Case No. ARC-15475-2: Methods for Stimulating Nervous System Regeneration and Repair by Gene Transfer of Modified STAT3 Alpha Genes;

NASA Case No. ARC-14661-3: Selective Functionalization of Carbon Nanotubes Based Upon Distance Traveled;

NASA Case No. ARC-15714-1: Multiple Wavelength Light Collimator and Monitor.

Dated: May 23, 2006.
Keith T. Sefton,
Deputy General Counsel, Administration and Management.

[FR Doc. E6-8270 Filed 5-26-06; 8:45 am]

BILLING CODE 7510-13-P